DEPARTMENT OF HOMELAND SECURITY

Federal Emergency Management Agency

Agency Information Collection Activities: Proposed Collection; Comment Request

AGENCY: Federal Emergency Management Agency, Emergency Preparedness and Response Directorate, Department of Homeland Security.

ACTION: Notice and request for comments.

SUMMARY: The Federal Emergency Management Agency, as part of its continuing effort to reduce paperwork and respondent burden, invites the general public and other Federal agencies to take this opportunity to comment on a proposed information collection. In accordance with the Paperwork Reduction Act of 1995 (44 U.S.C. 3506(c)(2)(A)), this notice seeks comments concerning the end-of-course evaluation form used to evaluate the National Fire Academy's (NFA) resident and regional delivery courses.

SUPPLEMENTARY INFORMATION: The NFA is mandated under the Fire Prevention and Control Act of 1974, Public Law 93-498, to provide training and education to the Nation's fire service and emergency service personnel. To maintain the quality of these programs, it is necessary to evaluate them on an ongoing basis. The National Fire Academy Course Evaluation Form provides one means of maintaining quality assurance for NFA resident and regional courses. This form is used for on-campus courses delivered at the NFA facility, located in Emmitsburg, Maryland, and for NFA regional courses, which are identical to the NFA resident courses, but offered in selected regions to students unable to travel to NFA for the resident offering of the course.

Collection of Information

Title: National Fire Academy Course Evaluation Form.

Type of Information Collection: Revision of a currently approved collection.

OMB Number: 1660-0032.

Form Number: FEMA Form 95-20, National Fire Academy Course Evaluation Form.

Abstract: The National Fire Academy Course Evaluation Form is used to evaluate the effectiveness of all resident and regional delivery courses. The form is primarily used to assess the effectiveness of course materials, instructor delivery and physical location. The demographic information is used in developing needs assessments and identifying the student population's representation.

Affected Public: Individuals participating in NFA on-campus or regional courses.

Estimated Total Annual Burden Hours: 1,450.

Estimated Number of Respondents: 5,800.

Estimated Hour Burden Per Response: 15 minutes.

Frequency of Response: On occasion.

Estimated Cost: The annualized cost to respondents is minimal. Respondents utilize the hour burden at the end of each course to complete the written evaluation form, therefore, a cost estimate is not included.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Branch Chief, Records Management Branch, Information Resources Management Division, Information Technology Services Directorate, Federal Emergency Management Agency, Emergency Preparedness and Response Directorate, U.S. Department of Homeland Security, 500 C Street, SW., Room 316, Washington, DC 20472.

FOR FURTHER INFORMATION CONTACT: Contact Terry Gladhill, Program Analyst, National Fire Academy at (301) 447-1239 for additional information. You may contact Ms. Anderson for copies of the proposed collection of information at facsimile number (202) 646-3347 or e-mail address: Information.Collections@fema.gov.

Dated: November 13, 2003.
Edward W. Kernan,
Division Director, Information Resources Management Division, Information Technology Services Directorate.

[FR Doc. 03-29290 Filed 11-21-03; 8:45 am]

BILLING CODE 9110-17-P